DEPARTMENT OF HOMELAND SECURITY

Federal Emergency Management Agency

[Docket ID FEMA-2017-0002; Internal Agency Docket No. FEMA-B-1712]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Flood Insurance Rate Maps (FIRMs), and where applicable, portions of the Flood Insurance Study (FIS) report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: April 25, 2017.
Roy E. Wright,
Deputy Associate Administrator for Insurance and Mitigation, Department of Homeland Security, Federal Emergency Management Agency.

Arizona:
Maricopa | City of Glendale (16-09-2447P) | The Honorable Jerry Weiers, Mayor, City of Glendale, City Hall, 5850 West Glendale Avenue, Glendale, AZ 85301 | City Hall, 5850 West Glendale Avenue, Glendale, AZ 85301 | http://www.msc.fema.gov/lomc | June 16, 2017 | 040045
Maricopa | City of Litchfield Park (16-09-3089P) | The Honorable Thomas L. Schoaf, Mayor, City of Litchfield Park, City Hall, 214 West Wigwam Boulevard, Litchfield Park, AZ 85340 | City Hall, 214 West Wigwam Boulevard, Litchfield Park, AZ 85340 | http://www.msc.fema.gov/lomc | June 15, 2017 | 040128
Maricopa | City of Peoria (16-09-2447P) | The Honorable Cathy Carlat, Mayor, City of Peoria, 8401 West Monroe Street, Peoria, AZ 85345 | City Hall, 8401 West Monroe Street, Peoria, AZ 85345 | http://www.msc.fema.gov/lomc | June 16, 2017 | 040050
Maricopa | City of Phoenix (16-09-2155P) | The Honorable Greg Stanton, Mayor, City of Phoenix, 200 West Washington Street, 11th Floor, Phoenix, AZ 85003 | Street Transportation Department, 200 West Washington Street, 5th Floor, Phoenix, AZ 85003 | http://www.msc.fema.gov/lomc | June 2, 2017 | 040051
Maricopa | Unincorporated Areas of Maricopa County (16-09-2447P) | The Honorable Denny Barney, Chairman, Board of Supervisors, Maricopa County, 301 West Jefferson Street, 10th Floor, Phoenix, AZ 85003 | Flood Control District of Maricopa County, 2801 West Durango Street, Phoenix, AZ 85009 | http://www.msc.fema.gov/lomc | June 16, 2017 | 040037
Pima | City of Tucson (16-09-1226P) | The Honorable Jonathan Rothschild, Mayor, City of Tucson, 255 West Alameda Street, 10th Floor, Tucson, AZ 85701 | Planning and Development Services, 201 North Stone Avenue, 1st Floor, Tucson, AZ 85701 | http://www.msc.fema.gov/lomc | June 2, 2017 | 040076
Pima | Unincorporated Areas of Pima County (16-09-1226P) | The Honorable Sharon Bronson, Chair, Board of Supervisors, Pima County, 130 West Congress Street, 11th Floor, Tucson, AZ 85701 | Pima County Flood Control District, 201 North Stone Avenue, 9th Floor, Tucson, AZ 85701 | http://www.msc.fema.gov/lomc. | June 2, 2017 | 040073
California:
Contra Costa | City of Brentwood (17-09-0675P) | The Honorable Robert Taylor, Mayor, City of Brentwood, 150 City Park Way, Brentwood, CA 94513 | Planning Department, 150 City Park Way, Brentwood, CA 94513 | http://www.msc.fema.gov/lomc | June 19, 2017 | 060439
Contra Costa | Unincorporated Areas of Contra Costa County 17-09-0675P) | The Honorable Federal D. Glover, Chairman, Board of Supervisors, Contra Costa County, 651 Pine Street, Martinez, CA 94553 | Public Works Department, 255 Glacier Drive, Martinez, CA 94553 | http://www.msc.fema.gov/lomc | June 19, 2017 | 060025
Madera | Unincorporated Areas of Madera County (16-09-2575P) | The Honorable Max Rodriguez, Chairman, Board of Supervisors, Madera County, 200 West 4th Street, Madera, CA 93637 | Resource Management Agency, 2037 West Cleveland Avenue, Madera, CA 93637 | http://www.msc.fema.gov/lomc. | June 15, 2017 | 060170
Riverside | City of Menifee (16-09-1612P) | The Honorable Scott Mann, Mayor, City of Menifee, 29714 Haun Road, Menifee, CA 92586 | Engineering & Public Works Departments, 29714 Haun Road, Menifee, CA 92586 | http://www.msc.fema.gov/lomc | June 16, 2017 | 060176
San Diego | City of San Diego (16-09-1178P) | The Honorable Kevin L Faulconer, Mayor, City of San Diego, 202 C Street, 11th Floor, San Diego, CA 92101 | Public Works Department, 525 B Street, Suite 750, MS 908A, San Diego, CA 92101 | http://www.msc.fema.gov/lomc | May 30, 2017 | 060295
San Joaquin | City of Stockton (16-09-2351P) | The Honorable Michael D. Tubbs, Mayor, City of Stockton, 425 North El Dorado Street , Stockton, CA 95202 | Community Development Department, 345 North El Dorado Street, Stockton, CA 95202 | http://www.msc.fema.gov/lomc | June 23, 2017 | 060302
Idaho: Ada | Unincorporated Areas of Ada County (16-10-1385P) | The Honorable Dave Case, Chairman, Ada County Board of Commissioners, 200 West Front Street, 3rd Floor, Boise, ID 83702 | Ada County Courthouse, 200 West Front Street, Boise, ID 83702 | http://www.msc.fema.gov/lomc | June 23, 2017 | 160001
Indiana:
Boone | City of Lebanon (16-05-5075P) | The Honorable Matt Gentry, Mayor, City of Lebanon, City of Lebanon Municipal Building, 401 South Meridian Street, Lebanon, IN 46052 | Municipal Building, 401 South Meridian Street, Lebanon, IN 46052 | http://www.msc.fema.gov/lomc | June 23, 2017 | 180013
Boone | Unincorporated Areas of Boone County (16-05-5075P) | The Honorable Jeff Wolfe, Boone County Commissioner, 201 Courthouse Square, Lebanon, IN 46052 | Boone County Area Plan Commission, 116 West Washington Street, Lebanon, IN 46052 | http://www.msc.fema.gov/lomc | June 23, 2017 | 180011
Kentucky:
Pike | Unincorporated Areas of Pike County (17-04-1490P) | The Honorable William M. Deskins, Judge Executive, Pike County, 146 Main Street, Pikeville, KY 41501 | Pike County Courthouse, 146 Main Street, Pikeville, KY 41501 | http://www.msc.fema.gov/lomc | June 29, 2017 | 210298
Pike | Unincorporated Areas of Pike County (17-04-1672P) | The Honorable William M. Deskins, Judge Executive, Pike County, 146 Main Street, Pikeville, KY 41501 | Pike County Courthouse, 146 Main Street, Pikeville, KY 41501 | http://www.msc.fema.gov/lomc | June 29, 2017 | 210298
Michigan: Wayne | City of Northville (16-05-6404P) | The Honorable Ken Roth, Mayor, City of Northville, City Hall, 215 West Main Street, Northville, MI 48167 | City Hall, 215 West Main Street, Northville, MI 48167 | http://www.msc.fema.gov/lomc | June 2, 2017 | 260235
Missouri:
St. Charles | City of Cottleville (16-07-1877P) | The Honorable Jim Hennessey, Mayor, City of Cottleville, 5490 5th Street, Cottleville, MO 63304 | City Hall, 5490 5th Street, Cottleville, MO 63304 | http://www.msc.fema.gov/lomc | June 29, 2017 | 290898
St. Charles | City of St. Peters (16-07-1877P) | The Honorable Len Pagano, Mayor, City of St. Peters, 1 St. Peters Centre Boulevard, St. Peters, MO 63376 | City Hall, 1 Saint Peters Centre Boulevard, St. Peters, MO 63376 | http://www.msc.fema.gov/lomc | June 29, 2017 | 290319
St. Charles | Unincorporated Areas of St. Charles County (16-07-1877P) | Mr. Steve Ehlmann, St. Charles County Executive, 100 North 3rd Street Suite 318, St. Charles, MO 63301 | County Administration Building, 201 North 2nd Street, Suite 420, St. Charles, MO 63301 | http://www.msc.fema.gov/lomc | June 29, 2017 | 290315
Nebraska:
Howard | Unincorporated Areas of Howard County (16-07-2344P) | The Honorable Kathy Hirschman, Chairman, Howard County Board of Commissioners, 830 Hardy Road, St Paul, NE 68873 | Howard County Courthouse, 612 Indian Street, St. Paul, NE 68873 | http://www.msc.fema.gov/lomc | June 8, 2017 | 310446
Howard | Village of Dannebrog (16-07-2344P) | The Honorable Carol Schroeder, Chairperson, Village of Dannebrog, 104 South Mill Street, Dannebrog, NE 68831 | Village Hall, 102 South Mill Street, Dannebrog, NE 68831 | http://www.msc.fema.gov/lomc | June 8, 2017 | 310118
Nevada:
Carson | City of Carson City (16-09-1192P) | The Honorable Robert Crowell, Mayor, City of Carson City, City Hall, 201 North Carson Street, Suite 2, Carson City, NV 89701 | Carson City Permit Center, 108 East Proctor Street, Carson City, NV 89701 | http://www.msc.fema.gov/lomc | June 5, 2017 | 320001
Clark | City of Las Vegas (16-09-0698P) | The Honorable Carolyn G. Goodman, Mayor, City of Las Vegas, City Hall, 495 South Main Street, Las Vegas, NV 89101 | Public Works Department, 400 Stewart Avenue, 4th Floor, Las Vegas, NV 89101 | http://www.msc.fema.gov/lomc | June 21, 2017 | 325276
Clark | City of North Las Vegas (16-09-2150P) | The Honorable John J. Lee, Mayor, City of North Las Vegas, 2250 Las Vegas Boulevard North, North Las Vegas, NV 89030 | Public Works Department, 2200 Civic Center Drive, North Las Vegas, NV 89030 | http://www.msc.fema.gov/lomc | May 30, 2017 | 320007
Clark | City of North Las Vegas (16-09-2540P) | The Honorable John J. Lee, Mayor, City of North Las Vegas, 2250 Las Vegas Boulevard North, North Las Vegas, NV 89030 | Public Works Department, 2200 Civic Center Drive, North Las Vegas, NV 89030 | http://www.msc.fema.gov/lomc | May 30, 2017 | 320007
Clark | City of North Las Vegas (16-09-3212P) | The Honorable John J. Lee, Mayor, City of North Las Vegas, 2250 Las Vegas Boulevard North, North Las Vegas, NV 89030 | Public Works Department, 2200 Civic Center Drive, North Las Vegas, NV 89030 | http://www.msc.fema.gov/lomc | June 29, 2017 | 320007
New Jersey: Ocean | Township of Brick (16-02-1649P) | The Honorable John G. Ducey, Mayor, Township of Brick, 401 Chambersbridge Road, Brick, NJ 08723 | Township Hall Municipal Building, 401 Chambersbridge Road, Brick, NJ 08723 | http://www.msc.fema.gov/lomc | May 30, 2017 | 345285
Oregon: Deschutes | Unincorporated Areas of Deschutes County (17-10-0456P) | Ms. Tammy Baney, Chair, Deschutes County Board of Commissioners, P.O. Box 6005, Bend, OR 97708 | Deschutes County Board of Commissioners, 1164 Northwest Bond Street, Bend, OR 97701 | http://www.msc.fema.gov/lomc | June 23, 2017 | 410055
Texas:
Dallas | City of Balch Springs (16-06-3086P) | The Honorable Carrie Marshall, Mayor, City of Balch Springs, 13503 Alexander Road, Balch Springs, TX 75181 | Public Works Department, 3117 Hickory Tree Road, Balch Springs, TX 75180 | http://www.msc.fema.gov/lomc | July 5, 2017 | 480166
Dallas | City of Dallas (16-06-3086P) | The Honorable Michael S. Rawlings, Mayor, City of Dallas, 1500 Marilla Street, Suite 5EN, Dallas, TX 75201 | Department of Public Works, 320 East Jefferson Boulevard, Dallas, TX 75203 | http://www.msc.fema.gov/lomc | July 5, 2017 | 480171
Dallas | City of Grand Prairie (17-06-0542P) | The Honorable Ron Jensen, Mayor, City of Grand Prairie, 317 West College Street, Grand Prairie, TX 75050 | City Development Center, 206 West Church Street, Grand Prairie, TX 75050 | http://www.msc.fema.gov/lomc | June 8, 2017 | 485472
Washington: Wahkiakum | Unincorporated Areas of Wahkiakum County (16-10-0856P) | Mr. Blair H. Brady, Chairman, Wahkiakum County, Board of Commissioners, 64 Main Street, Cathlamet, WA 98612 | Wahkiakum County Courthouse, 64 Main Street, Cathlamet, WA 98612 | http://www.msc.fema.gov/lomc | June 23, 2017 | 530193
Wisconsin:
Marathon | Unincorporated Areas of Marathon County (17-05-1790X) | The Honorable Kurt Gibbs, Chairperson, Marathon County, 500 Forest Street, Wausau, WI 54403 | Conservation Planning and Zoning Office, 210 River Drive, Wausau, WI 54403 | http://www.msc.fema.gov/lomc | June 22, 2017 | 550245
Marathon | Village of Hatley (17-05-1790X) | The Honorable David Narloch, President, Village of Hatley, 115 Kuhlman Avenue, Hatley, WI 54440 | Village Hall, 435 Curtis Avenue, Hatley, WI 54440 | http://www.msc.fema.gov/lomc | June 22, 2017 | 550251
Milwaukee | City of Milwaukee (16-05-7247P) | The Honorable Tom Barrett, Mayor, City of Milwaukee, 200 East Wells Street, Room 201, Milwaukee, WI 53202 | City Hall, 200 East Wells Street, Milwaukee, WI 53202 | http://www.msc.fema.gov/lomc | June 23, 2017 | 550278
Milwaukee | Village of Brown Deer (16-05-7247P) | The Honorable Carl Krueger, Village President, Village of Brown Deer, 4800 West Green Brook Drive, Brown Deer, WI 53223 | Village Hall, 4800 West Green Brook Drive, Brown Deer, WI 53223 | http://www.msc.fema.gov/lomc | June 23, 2017 | 550271
Waukesha | Unincorporated Areas of Waukesha County (16-05-6562P) | The Honorable Paul L. Decker, Waukesha County, Board Chair, County Courthouse, 515 West Moreland Boulevard, Room C170, Waukesha, WI 53188 | Waukesha County Administration Section, 515 West Mooreland Boulevard, Waukesha, WI 53188 | http://www.msc.fema.gov/lomc | June 23, 2017 | 550476
Waukesha | Village of Sussex (16-05-6562P) | The Honorable Gregory L. Goetz, President, Village Board, N61W24222 Oak Court, Sussex, WI 53089 | Village Hall, N64W23760 Main Street, Sussex, WI 53089 | http://www.msc.fema.gov/lomc | June 23, 2017 | 550490

[FR Doc. 2017-10179 Filed 5-25-17; 8:45 am]

BILLING CODE 9110-12-P